DEPARTMENT OF THE INTERIOR

Bureau of Land Management

[LLWO260000.L10600000.PC0000]

Renewal of Approved Information Collection

AGENCY: Bureau of Land Management, Interior.

ACTION: 30-day Notice and Request for Comments.

SUMMARY: The Bureau of Land Management (BLM) has submitted an information collection request to the Office of Management and Budget (OMB) for a 3-year renewal of OMB Control Number 1004-0042 under the Paperwork Reduction Act. This control number covers paperwork requirements in 43 CFR part 4700, which pertain to the protection, management, and control of wild free-roaming horses and burros.

DATES: The OMB is required to respond to this information collection request within 60 days but may respond after 30 days. Therefore, written comments should be received on or before January 26, 2011.

ADDRESSES: Please submit comments directly to the Desk Officer for the Department of the Interior (OMB #1004-0042), Office of Management and Budget, Office of Information and Regulatory Affairs, fax 202-395-5806, or by electronic mail at oira_docket@omb.eop.gov. Please provide a copy of your comments to the BLM. You may do so via mail, fax, or electronic mail.

Mail: Bureau Information Collection Clearance Officer (WO-630), Department of the Interior, 1849 C Street, NW., Mail Stop 401 LS, Washington, DC 20240.

Fax: Jean Sonneman at fax number 202-912-7102.

Electronic mail: jean_sonneman@blm.gov.

FOR FURTHER INFORMATION CONTACT: You may contact Bea Wade at 775-861-6625. Persons who use a telecommunication device for the deaf (TDD) may call the Federal Information Relay Service (FIRS) at 1-800-877-8339, to contact Ms. Wade. You may also contact Ms. Wade to obtain a copy, at no cost, of the regulations and the form pertaining to this collection of information.

SUPPLEMENTARY INFORMATION: The Paperwork Reduction Act provides that an agency may not conduct or sponsor a collection of information unless it displays a currently valid OMB control number. Until OMB approves a collection of information, you are not obligated to respond. 44 U.S.C. 3506 and 3507.

OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR part 4700.

The following information is provided for the information collection:

Title: Protection, Management, and Control of Wild Free-Roaming Horses and Burros (43 CFR part 4700).

Form: Form 4710-10, Application for Adoption of Wild Horse(s) or Burro(s).

OMB Control Number: 1004-0042.

Type of Review: Extension without change of a currently approved information collection.

Abstract: This notice pertains to the collection of information that is necessary to administer the BLM's adoption program for wild horses and burros. The BLM uses the information to determine if applicants are qualified to enter into a Private Maintenance and Care Agreement (i.e., adopt wild horses and/or burros), to determine whether or not to grant requests for replacement animals or refunds, and to make other arrangements for animals' care when an adopter wants to terminate a Private Maintenance and Care Agreement.

Frequency: On occasion.

Estimated Annual Number and Description of Respondents: 14,452 individuals and households (including 14,000 applicants for adoption of wild horses or burros, 12 seeking authorization for private maintenance of more than 4 wild horses or burros, 320 requesting termination of Private Maintenance and Care Agreement, and 120 requesting replacement animals).

Estimated Completion Time per Response: Varies from 10 to 30 minutes depending on activity.

Estimated Annual Reporting and Recordkeeping “Hour” Burden: 14,452 responses and 7,222 hours.

Estimated Annual Reporting and Recordkeeping “Non-Hour Cost” Burden: $7,200.

60-Day Notice: As required in 5 CFR 1320.8(d), the BLM published a 60-day notice in the Federal Register on June 28, 2010 (75 FR 36665), soliciting comments from the public and other interested parties. The comment period closed on August 27, 2010. The BLM received one comment. The comment was a general invective about the Federal government, the Department of the Interior, and the BLM. It did not address, and was not germane to, this information collection. Therefore, we have not changed the information collection in response to the comment.

The BLM again requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0042 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-32427 Filed 12-23-10; 8:45 am]

BILLING CODE 4310-84-P